DEPARTMENT OF ENERGY

Federal Energy Regulatory Commission

[Docket No. ER02-1656-000]

California Independent System Operator Corporation; Notice of FERC Staff Attendance

August 2, 2005.

The Federal Energy Regulatory Commission (Commission) hereby gives notice that on August 2, 2005, members of its staff will attend stakeholder meetings on the California Independent System Operator's (CAISO) new stakeholder process. The meeting will take place in the CAISO Boardroom, 151 Blue Ravine Road, Folsom, CA.

Sponsored by the CAISO, these meetings are open to all market participants, and staff's attendance is part of the Commission's ongoing outreach efforts. The meetings may discuss matters at issue in Docket No. ER02-1656-000.

For further information, contact Katherine Gensler at katherine.gensler@ferc.gov; (916) 294-0275.

Magalie R. Salas,
Secretary.

[FR Doc. E5-4323 Filed 8-9-05; 8:45 am]

BILLING CODE 6717-01-P